DEPARTMENT OF TRANSPORTATION

Federal Aviation Administration

14 CFR Parts 107 and 108

[Docket No. FAA-2001-10999;Amdt. Nos. 107-14 and 108-19]

RIN 2120-AH53

Criminal History Records Checks

AGENCY: Federal Aviation Administration (FAA), DOT.

ACTION: Final rule with request for comments; reopening of comment period.

SUMMARY: On December 6, 2001, the FAA published a final rule with request for comments regarding criminal history records checks and invited comments. The comment period closed on January 17, 2002; however, the FAA is reopening the comment period in response to a request from the AFL-CIO.

DATES: Comments must be received on or before March 11, 2002.

ADDRESSES: Address your comments to the Docket Management System, U.S. Department of Transportation, Room Plaza 401, 400 Seventh Street, SW., Washington, DC 20590. You must identify the docket number FAA-2001-10999 at the beginning of your comments, and you should submit two copies of your comments. If you wish to receive confirmation that the FAA received your comments, include a self-addressed, stamped postcard. You may also submit comments through the Internet to http://dms.dot.gov.

You may review the public docket containing comments to these proposed regulations in person in the Dockets Office between 9 a.m. and 5 p.m., Monday through Friday, except Federal holidays. The Dockets Office is on the plaza level of the NASSIF Building at the Department of Transportation at the above address. Also, you may review public dockets on the Internet at http://dms.dot.gov.

FOR FURTHER INFORMATION CONTACT: Linda Valencia, Office of Civil Aviation Security Policy and Planning, Civil Aviation Security Division (ACP-100), Federal Aviation Administration, 800 Independence Ave., SW., Washington, DC 20591; telephone 202-267-3413.

SUPPLEMENTARY INFORMATION:

Comments Invited

The final rule was adopted without prior notice and prior public comment. The Regulatory Policies and Procedures of the Department of Transportation (DOT) (44 FR 1134; Feb. 26, 1979), however provides that, to the maximum extent possible, operating administrations for the DOT should provide an opportunity for public comment on regulations issued without prior notice. Accordingly, interested persons were, and are, invited to participate in this rulemaking by submitting written data, views, or arguments. Comments relating to environmental, energy, federalism, or international trade impacts that might result from this amendment also are invited. Comments must include the docket number or amendment number and must be submitted in duplicate to the address above. All comments received, as well as a report summarizing each substantive public contact with FAA personnel on this rulemaking, will be filed in the public docket. The docket is available for public inspection before and after the comment closing date.

The FAA will consider all comments received on or before the closing date for comments. Late-filed comments will be considered to the extent practicable. The final rule may be amended in light of the comments received.

See ADDRESSES above for information on how to submit comments.

Availability of Final Rule

You can get an electronic copy using the Internet by taking the following steps:

(1) Go to search function of the Department of Transportation's electronic Docket Management System (DMS) Web page (http://dms.dot.gov/search).

(2) On the search page type in the last five digits of the Docket number shown at the beginning of this document. Click on “search.”

(3) On the next page, which contains the Docket summary information for the Docket you selected, click on the final rule.

You can also get an electronic copy using the Internet through FAA's web page at http://www.faa.gov/avr/armhome.htm or the Government Printing Office's web page at http://www.access.gpo.gov/su_ docs/aces/aces140html.

You can also get a copy by submitting a request to the Federal Aviation Administration, Office of Rulemaking, ARM-1, 800 Independence Avenue, SW., Washington, DC 20591, or by calling (202) 267-9680. Be sure to identify the amendment number or docket number of this final rule.

Reopening of Comment Period

On December 6, 2001, the FAA published a final rule with request for comments entitled “Criminal History Records Checks” (66 FR 63474). The FAA requested that comments be submitted by January 7, 2002. The comment period was extended to January 17, 2002, by request of the Air Transport Association (ATA) and the Regional Airline Association (RAA) (67 FR 655; Jan. 7, 2002).

By letter dated January 15, 2002, the AFL-CIO Transportation Trades Department (TTD) requested an additional 45 days to submit comments. TTD stated that the FAA had allowed an unusually short comment period, which prevented TTD from providing substantive input on the rule.

The FAA determines that reopening the comment period is in the public interest. Accordingly, the comment period for the final rule “Criminal Records Checks” is reopened until March 11, 2002.

Issued in Washington, DC, on January 22, 2002.
Robin C. Burke,
Deputy Director, Office of Civil Aviation Security Policy and Planning.

[FR Doc. 02-2016 Filed 1-23-02; 2:02 pm]

BILLING CODE 4910-13-P